COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action deletes products from the Procurement List previously furnished by nonprofit agencies employing persons who are blind or have other severe disabilities.

DATES: Effective: July 2, 2017.

ADDRESSES: Committee for Purchase From People Who Are Blind or Severely Disabled, 1401 S. Clark Street, Suite 715, Arlington, Virginia 22202-4149.

FOR FURTHER INFORMATION CONTACT: Amy B. Jensen, Telephone: (703) 603-7740, Fax: (703) 603-0655, or email CMTEFedReg@AbilityOne.gov.

SUPPLEMENTARY INFORMATION:

Deletions

On April 28, 2017 (82 FR 19662-19663), the Committee for Purchase From People Who Are Blind or Severely Disabled published notice of proposed deletions from the Procurement List.

After consideration of the relevant matter presented, the Committee has determined that the products listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products to the Government.

3. There are no known regulatory alternatives which would accomplish the objectives of the Javits-Wagner-O'Day Act (41 U.S.C. 8501-8506) in connection with the products deleted from the Procurement List.

End of Certification

Accordingly, the following products are deleted from the Procurement List:

Products

NSN(s)—Product Name(s): 7530‐01‐368‐3491—Index Dividers, White Tabs with Black Print, January-December

Mandatory Source(s) of Supply: South Texas Lighthouse for the Blind, Corpus Christi, TX

Contracting Activities:

General Services Administration, New York, NY

Department of Veterans Affairs, Strategic Acquisition Center

NSN(s)—Product Name(s):

7930-00-NIB-0210 Cleaner, Phenolic Disinfectant, Concentrate, 2 Liter

7930-01-381-5957 Cleaner, Pretreatment Carpet, Concentrate, 2 Liter

7930-01-412-1031 Cleaner, Scotchgard Bonnet, Concentrate, 2 Liter

Mandatory Source(s) of Supply: Beacon Lighthouse, Inc., Wichita Falls, TX

Contracting Activity: Department of Veterans Affairs, Strategic Acquisition Center

NSN(s)—Product Name(s): 7350-01-359-9524—Cup, Paper, Recyclable, White, 9 oz.

Mandatory Source(s) of Supply: Clovernook Center for the Blind and Visually Impaired, Cincinnati, OH

Contracting Activity: General Services Administration, Fort Worth, TX

NSN(s)—Product Name(s):

7520-01-624-9379—Pen, Roller Ball, Liquid Ink, Retractable, Needle Point, Airplane Safe, 0.5mm, Refillable, Black, EA

7520-01-624-9383—Pen, Roller Ball, Liquid Ink, Retractable, Needle Point, Airplane Safe, 0.5mm, Refillable, Blue, EA

7520-01-624-9384—Pen, Roller Ball, Liquid Ink, Retractable, Needle Point, Airplane Safe, 0.7mm, Refillable, Black, EA

7520-01-624-9385—Pen, Roller Ball, Liquid Ink, Retractable, Needle Point, Airplane Safe, 0.7mm, Refillable, Blue, EA

Mandatory Source(s) of Supply: San Antonio Lighthouse for the Blind, San Antonio, TX

Contracting Activity: General Services Administration, New York, NY

NSN(s)—Product Name(s): 7520-01-466-0485—Tray, Desk, Plastic

Mandatory Source(s) of Supply: LC Industries, Inc., Durham, NC

Contracting Activity: General Services Administration, New York, NY

NSN(s)—Product Name(s):

891500-NSH-0145—Diced Green Peppers Diced Green Peppers

891500-NSH-0146—Sliced Yellow Onions Sliced Yellow Onions

891500-NSH-0147—Cole Slaw with Carrots

Mandatory Source(s) of Supply: Employment Solutions, Inc., Lexington, KY

Contracting Activity: Department of Justice, Federal Prison System

NSN(s)—Product Name(s): MR 942—Cloth, Dish, 2 pack

Mandatory Source(s) of Supply: Lions Services, Inc., Charlotte, NC

Contracting Activity: Defense Commissary Agency

NSN(s)—Product Name(s): 1430-01-133-8435—Bag, Storage

Mandatory Source(s) of Supply: Huntsville Rehabilitation Foundation, Huntsville, AL

Contracting Activity: Defense Logistics Agency Land and Maritime

Amy B. Jensen,
Director, Business Operations.

[FR Doc. 2017-11469 Filed 6-1-17; 8:45 am]

BILLING CODE 6353-01-P